DEPARTMENT OF JUSTICE

Notice of Lodging Proposed Consent Decree

In accordance with Departmental Policy, 28 CFR 50.7, notice is hereby given that a proposed Consent Decree in United States, et al. v. Greer Industries, Inc., et al., Case No. 1:17-cv-00004-IMK, was lodged with the United States District Court for the Northern District of West Virginia on January 9, 2017.

This proposed Consent Decree concerns a complaint filed by the United States and the State of West Virginia against Greer Industries, Inc., Deckers Creek Limestone Company, and Pikewood, Inc., pursuant to 33 U.S.C. Sections 1319(b) and (d) of the Clean Water Act and W. Va. Code Section 22-11-22, to obtain injunctive relief from and impose civil penalties against the Defendants for violating the Clean Water Act by discharging pollutants without a permit into waters of the United States and waters of the State of West Virginia. The proposed Consent Decree resolves these allegations by requiring the Defendants to restore the impacted areas and/or perform mitigation and to pay a civil penalty.

The Department of Justice will accept written comments relating to this proposed Consent Decree for thirty (30) days from the date of publication of this Notice. Please address comments to Austin Saylor, Trial Attorney, United States Department of Justice, Environment and Natural Resources Division, Environmental Defense Section, Post Office Box 7611, Washington, DC 20044, and refer to United States, et al. v. Greer Industries, Inc., et al., DJ # 90-5-1-1-19059.

The proposed Consent Decree may be examined at the Clerk's Office, United States District Court for the Northern District of West Virginia, 1125 Chapline Street, Suite 1000, Wheeling, West Virginia 26003. In addition, the proposed Consent Decree may be examined electronically at http://www.justice.gov/enrd/consent-decrees.

Cherie L. Rogers,
Assistant Section Chief, Environmental Defense Section, Environment and Natural Resources Division.

[FR Doc. 2017-01133 Filed 1-18-17; 8:45 am]

BILLING CODE 4410-15-P